DEPARTMENT OF ENERGY

Federal Energy Regulatory Commission

[Docket No. 5. EC-46-000, ER00-1027-000, ER00-1028-000, and ER00-1029-000]

Vermont Yankee Nuclear Power Corp., Vermont Electric Power Company, Inc., and AmerGen Vermont, L.L.C. Notice of Initiation of Proceeding and Refund Effective Date

June 30, 2000.

Take notice that on June 29, 2000, the Commission issued an order in the above-indicated dockets initiating a proceeding in Docket No. ER00-1029-000 under section 206 of the Federal Power Act.

The refund effective date in Docket No. ER00-1029-000 will be 60 days after publication of this notice in the Federal Register.

David P. Boergers,
Secretary.

[FR Doc. 00-17172 Filed 7-6-00; 8:45 am]

BILLING CODE 6717-01-M